DEPARTMENT OF TRANSPORTATION

Maritime Administration

[Docket Number: 2008 0084]

Application of Foreign Underwriters To Write Marine Hull Insurance

The Maritime Administration has received an application under 46 CFR part 249 from Codan Forsikring A/S, a Denmark based underwriter, to write Marine hull insurance on vessels guaranteed under 46 U.S.C. Chapter 537 (formerly Title XI of the Merchant Marine Act of 1936, as amended).

In accordance with 46 CFR 249.7(b), interested persons are hereby afforded an opportunity to bring to the Maritime Administration's attention any discriminatory laws or practices relating to the placement of marine hull insurance which may exist in the applicant's country of domicile.

You may submit comments regarding this information collection by any of the following methods:

a. Web Site: www.regulations.gov Following the instructions for submitting comments on the electronic docket site.

b. Mail: Docket Management Facility: U.S. Department of Transportation, 1200 New Jersey Avenue, SE., Room PL-401, Washington, DC 20590-0001.

c. Hand Delivery: Room PL-410 of the Department of Transportation, 1200 New Jersey Avenue, SE., Washington, DC. Between 9 a.m. and 5 p.m. Monday through Friday, except Federal holidays.

d. Federal eRulemaking Portal: Go to http://www.regulations.gov. Follow the outline instructions.

Instruction: All submissions must include the agency name and the docket number for this rulemaking. Note that all comments received will be posted without change to http://wwww.regulations.gov including any personal information provided. Please see the Privacy Act heading under Regulatory Notices.

Docket: For access to the docket to read background documents or comments received, go to http://www.regulations.gov at any time or to Room PL-401 of the Department of Transportation, 1200 New Jersey Avenue, SE., Washington, DC, between 9 a.m. and 5 p.m., Monday through Friday, except Federal holidays.

Dated: August 26, 2008.
By order of the Maritime Administrator.
Leonard Sutter,
Secretary, Maritime Administration.

[FR Doc. E8-20197 Filed 8-29-08; 8:45 am]

BILLING CODE 4910-81-P